NEIGHBORHOOD REINVESTMENT CORPORATION

Board of Directors Finance, Budget & Program Committee: Sunshine Act Meeting

TIME AND DATE: 1:00 p.m., Thursday, May 2, 2013.

PLACE: 1325 G Street NW., Suite 800, Boardroom, Washington, DC 20005.

STATUS: Open.

CONTACT PERSON FOR MORE INFORMATION: Erica Hall, Assistant Corporate Secretary (202) 220-2376; ehall@nw.org.

AGENDA:

I. CALL TO ORDER

II. FY 2013 Budget Update

III. Atlanta Lease

IV. CHC and NC Grants

V. FY 2014 Budget

VI. Financial Report

VII. DC Move Update

VIII. FY 13 Corporate Milestone Report and Dashboard

IX. NFMC, EHLP & MHA

X. NeighborhoodLIFT & CityLIFT

XI. Recent Fundraising & FY13 Grants Report

XII. Adjournment

Erica Hall,
Assistant Corporate Secretary.

[FR Doc. 2013-09944 Filed 4-23-13; 4:15 pm]

BILLING CODE 7570-02-P